ENVIRONMENTAL PROTECTION AGENCY

[ER-FRL-8589-7]

Environmental Impacts Statements; Notice of Availability

Responsible Agency: Office of Federal Activities, General Information (202) 564-7167 or http://www.epa.gov/compliance/nepa/.

Weekly receipt of Environmental Impact Statements

Filed 01/12/2009 Through 01/16/2009

Pursuant to 40 CFR 1506.9.

EIS No. 20090007, Draft EIS, BLM, CA, Carrizo Plain National Monument, Draft Resource Management Plan, Implementation, San Luis Obispo County and Portion of western Kern County, CA, Comment Period Ends: 04/22/2009, Contact: Katherine Worn 661-391-6067.

EIS No. 20090008, Draft EIS, FHW, WY, Jackson South Project, Proposes to Improve Seven Miles of U.S. 26/89/189/191/, Funding and Right-of-Way Approval, Teton County, WY, Comment Period Ends: 03/09/2009, Contact: Lee Potter 307-772-2004 Ext. 146.

EIS No. 20090009, Final EIS, AFS, WA, Republic Ranger Station Excess Residence Sale Project, Proposes to Sell a 0.72 Acre Parcel of Land with a Residential Building, Republic Ranger District, Colville National Forest, Ferry County, WA, Wait Period Ends: 02/23/2009, Contact: James L. Parker 509-775-7462.

EIS No. 20090010, Draft EIS, USN, WA, Swimmer Interdiction Security System (SISS) Project, Construction and Operation, Naval Base Kitsap—Bangor, Silverdale, Kitsap County, WA, Comment Period Ends: 03/09/2009, Contact: Shannon Kasa 619-553-3889.

EIS No. 20090011, Draft EIS, SFW, CA, Tehachapi Uplands Multiple Species Habitat Conservation Plan (TUMSHCP), Propose Issuance of a 50-Year Incidental Take Permit for 27 Federal- and State-Listed and Unlisted Species, Kern County, CA, Comment Period Ends: 04/22/2009, Contact: Mary Grim 916-414-6464.

EIS No. 20090012, Final EIS, NOA, 00, Proposed Acceptable Biological Catch (ABC) and Optimum Yield (OY) Specifications and Management Measures for the 2009-2010 Pacific Coast Groundfish Fishery Management Plan, Implementation, WA, OR and CA, Wait Period Ends: 02/23/2009, Contact: Robert Lohn 206-526-6150.

EIS No. 20090013, Draft EIS, CGD, 00, Programmatic—Future of the U.S. Coast Guard Long Range Aids to Navigation (LORAN-C) Program, Implementation, Comment Period Ends: 03/09/2009, Contact: CDR. Bob I. Feigenblatt 202-372-1558

EIS No. 20090014, Final EIS, NOA, OR, Bull Run Water Supply Habitat Conservation Plan, Application for and Incidental Take Permit to cover the Continued Operation and Maintenance, Sandy River Basin, City of Portland, OR, Wait Period Ends: 02/23/2009, Contact: D. Robert Lohn 301-713-1632.

EIS No. 20090015, Final EIS, FHW, TN, TN-397 (Mack Hatcher Parkway Extension) Construction from US-31 (TN-6, Columbia Avenue) South of Franklin to US-341 (TN-106, Hillsboro Road) North of Franklin, Additional Information on the Build Alternative (Alternative G), Williamson County and City of Franklin, TN, Wait Period Ends: 02/23/2009, Contact: Bobby Blackmon 615-781-5770.

Amended Notices

EIS No. 20080460, Draft EIS, FHW, CO, I-70 East Project, Transportation Improvement from I-70 East from 1-25 to Tower Road, Funding, City and County Denver, CO, Comment Period Ends: 03/31/2009, Contact: Chris Horn 720-963-3017. Revision to FR Notice Published 11/14/2008: Extending 12/31/2009 to 03/31/2009.

EIS No. 20080470, Final EIS, FHW, VT, Middlebury Spur Project, Improvements to the Freight Transportation System in the Town of Middlebury in Addison County to the Town of Pittsford in Rutland County, VT, Wait Period Ends: 01/30/2009, Contact: Kenneth Sikora, Jr.802-828-4573. Revision to FR Published 11/21/2008: Extending Wait Period from 12/23/2008 to 01/30/2009.

EIS No. 20080538, Second Draft Supplement, NRC, VA, North Anna Power Station Unit 3, Combined License (COL) application for Construction and Operation a Based-Load Nuclear Power Plant, (NUREG-1917), in the Town of Mineral, Louisa County, VA, Comment Period Ends: 03/20/2009, Contact: Alicia Williamson 301-415-1878. Revision to FR Notice Published 01/02/2009: Extending Comment Period from 03/16/2009 to 03/20/2009.

Dated: January 16, 2009.
Ken Mittelholtz,
Environmental Protection Specialist, Office of Federal Activities.

[FR Doc. E9-1394 Filed 1-22-09; 8:45 am]

BILLING CODE 6560-50-P